DEPARTMENT OF COMMERCE

International Trade Administration

[Application No. 14-1A004]

Export Trade Certificate of Review

ACTION: Notice of application to amend the Export Trade Certificate of Review issued to DFA of California, Application no. 14-1A004.

SUMMARY: The Office of Trade and Economic Analysis (“OTEA”) of the International Trade Administration, Department of Commerce, has received an application to amend an Export Trade Certificate of Review (“Certificate”). This notice summarizes the proposed amendment and requests comments relevant to whether the amended Certificate should be issued.

FOR FURTHER INFORMATION CONTACT: Joseph Flynn, Director, Office of Trade and Economic Analysis, International Trade Administration, (202) 482-5131 (this is not a toll-free number) or email at etca@trade.gov.

SUPPLEMENTARY INFORMATION: Title III of the Export Trading Company Act of 1982 (15 U.S.C. 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325 (2015). Section 302(b)(1) of the Export Trading Company Act of 1982 and 15 CFR 325.6(a) require the Secretary to publish a notice in the Federal Register summarizing the application. Under 15 CFR 325.6(a), interested parties may, within twenty days after the date of this notice, submit written comments to the Secretary on the application.

Request for Public Comments

Interested parties may submit written comments relevant to the determination whether an amended Certificate should be issued. If the comments include any privileged or confidential business information, it must be clearly marked and a nonconfidential version of the comments (identified as such) should be included. Any information not marked as privileged or confidential business information will be deemed to be nonconfidential.

An original and five (5) copies, plus two (2) copies of the nonconfidential version, should be submitted no later than 20 days after the date of this notice to: Export Trading Company Affairs, International Trade Administration, U.S. Department of Commerce, Room 21028, Washington, DC 20230.

Information submitted by any person is exempt from disclosure under the Freedom of Information Act (5 U.S.C. 552). However, nonconfidential versions of the comments will be made available to the applicant if necessary for determining whether or not to issue the amended Certificate. Comments should refer to this application as “Export Trade Certificate of Review, application number 14-1A004.”

Summary of the Application

Applicant: DFA of California, 710 Striker Avenue, Sacramento, CA 95834.

Contact: Matthew Krehe, Senior Manager with Gilbert Associates, Inc., (916) 646-6464.

Application No.: 14-1A004.

Date Deemed Submitted: June 19, 2015.

Proposed Amendment: DFA of California (“DFA”) seeks to amend its Certificate to add the following six companies as Members of DFA's Certificate:

1. CAPEX (Corning, CA)

2. C R Crain and Sons, Inc. (Los Molinos, CA)

3. Fig Garden Packing, Inc. (Fresno, CA)

4. RPC Packing Inc. (Porterville, CA)

5. Sun-Maid Growers of California (Kingsburg, CA)

6. Taylor Brothers Farms, Inc. (Yuba City, CA)

DFA's proposed amendment of its Export Trade Certificate of Review would result in the following companies as Members under the Certificate:

1. Alpine Pacific Nut Company (Hughson, CA)

2. Andersen & Sons Shelling (Vina, CA)

3. Avanti Nut Company, Inc. (Stockton, CA)

4. Berberian Nut Company, LLC (Chico, CA)

5. CAPEX (Corning, CA)

6. Carriere Family Farms, Inc. (Glenn, CA)

7. Continente Nut LLC (Oakley, CA)

8. Crain Walnut Shelling, Inc. (Los Molinos, CA)

9. C R Crain and Sons, Inc. (Los Molinos, CA)

10. Crisp California Walnuts (Stratford, CA)

11. Diamond Foods, Inc. (Stockton, CA)

12. Empire Nut Company (Colusa, CA)

13. Fig Garden Packing, Inc. (Fresno, CA)

14. Gold River Orchards, Inc. (Escalon, CA)

15. Grower Direct Nut Company (Hughson, CA)

16. GSF Nut Company (Orosi, CA)

17. Guerra Nut Shelling Company (Hollister, CA)

18. Hill View Packing Company Inc. (Gustine, CA)

19. Linden Nut Company (Linden, CA)

20. Mariani Nut Company (Winters, CA)

21. Mariani Packing Company, Inc. (Vacaville, CA)

22. Mid Valley Nut Company Inc. (Hughson, CA)

23. National Raisin Company (Fowler, CA)

24. Poindexter Nut Company (Selma, CA)

25. Prima Noce Packing (Linden, CA)

26. RPC Packing Inc. (Porterville, CA)

27. Sacramento Packing, Inc. (Yuba City, CA)

28. Sacramento Valley Walnut Growers, Inc. (Yuba City, CA)

29. San Joaquin Figs, Inc. (Fresno, CA)

30. Shoei Foods USA, Inc. (Olivehurst, CA)

31. Stapleton-Spence Packing (Gridley, CA)

32. Sun-Maid Growers of California (Kingsburg, CA)

33. Sunsweet Growers Inc. (Yuba City, CA)

34. Taylor Brothers Farms, Inc. (Yuba City, CA)

35. T.M. Duche Nut Company, Inc. (Orland, CA)

36. Wilbur Packing Company, Inc. (Live Oak, CA)

37. Valley Fig Growers (Fresno, CA)

Dated: June 29, 2015.
Joseph Flynn,
Director, Office of Trade and Economic Analysis, International Trade Administration.

[FR Doc. 2015-16474 Filed 7-2-15; 8:45 am]

BILLING CODE 3510-DR-P